DEPARTMENT OF JUSTICE

Notice of Lodging of Consent Decree Pursuant to The Comprehensive Environmental Response, Compensation, and Liability Act

In accordance with Departmental policy, 28 CFR 50.7, notice is hereby given that a Consent Decree in United States v. The Berkley Products Company, Civil Action. No. 00-CV-4628, was lodged on September 12, 2000, with the United States District Court for the Eastern District of Pennsylvania. The Consent Decree resolves the claims of the United States under sections 106(a), 107(a), and 113(g)(2) of the Comprehensive Environmental Response, Compensation, and Liability Act, as amended (“CERCLA”), for reimbursement of response costs incurred at the Berkley Products Superfund Site located in West Cocalico Township, Lancaster County, Pennsylvania, and for declaratory judgment as to liability that will be binding in actions to recover further response costs related to the Site. The Consent Decree obligates The Berkley Products Company to pay $30,000 in reimbursement of response costs incurred and to be incurred by EPA in responding to contamination at the Site.

The Department of Justice will receive, for a period of thirty (30) days from the date of this publication, comments relating to the proposed Consent Decree. Comments should be addressed to the Assistant Attorney General for the Environment and Natural Resources Division, Department of Justice, Washington, DC, 20530, and should refer toUnited States v. The Berkley Products Company, DOJ Ref. #90-11-3-06947.

The Consent Decree may be examined at the office of the United States Attorney, 615 Chestnut Street, Philadelphia, Pennsylvania, 19106; the Region III Office of the Environmental Protection Agency, 1650 Arch Street, Philadelphia, Pennsylvania, 19103; and by mail from the Consent Decree Library, Department of Justice, P.O. Box 7611, Washington, DC 20044-7611. In requesting a copy from the Consent Decree Library, please refer to the referenced case and enclose a check in the amount of $8.00 (25 cents per page reproduction cost), payable to the U.S. Treasury.

Walker Smith,
Deputy Chief, Environmental Enforcement Section, Environment and Natural Resources Division.

[FR Doc. 00-25715 Filed 10-5-00; 8:45 am]

BILLING CODE 4410-15-M